FEDERAL ELECTION COMMISSION

Sunshine Act Meetings

FEDERAL REGISTER CITATION OF PREVIOUS ANNOUNCEMENT: 85 FR 6951.

PREVIOUSLY ANNOUNCED TIME AND DATE OF THE MEETING: Tuesday, February 11, 2020 at 10:00 a.m.

CHANGES IN THE MEETING: The meeting was rescheduled for Thursday, February 13, 2020 at 10:00 a.m.

CONTACT PERSON FOR MORE INFORMATION: Judith Ingram, Press Officer. Telephone: (202) 694-1220.

Vicktoria J. Allen,
Acting Deputy Secretary of the Commission.

[FR Doc. 2020-02970 Filed 2-11-20; 11:15 am]

BILLING CODE 6715-01-P